DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Evaluation of the Comprehensive Community Mental Health Services for Children and Their Families Program: Phase VI-NEW

The Substance Abuse and Mental Health Services Administration (SAMHSA) Center for Mental Health Services is responsible for the national evaluation of the Comprehensive Community Mental Health Services for Children and Their Families Program (Children's Mental Health Initiative—CMHI) that will collect data on child mental health outcomes, family life, and service system development and performance. Data will be collected on 26 service systems, and approximately 5,541 children and families.

Data collection for this evaluation will be conducted over a five-year period. Child and family outcomes of interest will be collected at intake and during subsequent follow-up sessions at six-month intervals. The length of time that individual families will participate in the study ranges from 12 to 24 months depending upon when they enter the evaluation. The outcome measures include the following: Child symptomatology and functioning, family functioning, satisfaction, and caregiver strain. The core of service system data will be collected every 18-24 months throughout the 5-year evaluation period, with a sustainability survey conducted in years 3 and 5. Service utilization and cost data will be tracked and submitted to the national evaluation every six months using two tools, the Flex Fund Tool and the Services and Costs Data Tool, to estimate average cost of treatment per child, distribution of costs, and allocation of costs across service categories. Service delivery and system variables of interest include the following: Maturity of system of care development in funded system of care communities, adherence to the system of care program model, and client service experience. We will also conduct a comprehensive evaluation of the CMHI's data driven technical assistance; this component of the evaluation will employ a mixed-methods approach, combining qualitative and quantitative data to provide a comprehensive assessment of the continuous quality improvement (CQI) process in funded system of care communities. Specifically, data will be gathered through three complementary activities: A baseline survey of key constituents in all funded communities; a subsequent monitoring survey administered every two years to the same constituents; and biennial case studies of four selected communities.

In addition, the evaluation will include three special studies: (1) The sector specific assessment and quasi-experimental comparison study will examine in more detail the outcomes and service experience of children from multiple child-serving sectors and, through child-level matching, compare these outcomes with those not receiving system of care services; (2) The Alumni Network Study will examine the effectiveness of the system of care Alumni Network Web site by evaluating end-user satisfaction and usability of the Web site and will also assess the collaboration between communities via a Web-based Networking and Collaboration Survey that will measure the nature and extent of the interaction between communities; (3) The Study of State Strategies for Sustainability will examine the state's role in sustaining communities after federal funding ceases and describe effective strategies for sustaining funded systems of care. A short version of the sustainability survey developed for this evaluation will be used to gather this information.

Internet-based technology such as Web-based surveys and data entry and management tools will be used in this evaluation. The measures of the national evaluation address the national outcome measures for mental health programs as currently established by SAMHSA.

The average annual respondent burden is estimated below. The estimate reflects the average number of respondents in each respondent category, the average number of responses per respondent per year, the average length of time it will take to complete each response, and the total average annual burden for each category of respondent, and for all categories of respondents combined.

Phase VI Estimate of Respondent Burden
[Note: Total burden is annualized over a 5-year period]
Instrument | Respondent | Number of respondents | Total average number of responses per respondent | Hours per response | Total burden hours | 5-year average annual burden hours
System of Care Assessment
Interview Guide A. Core Agency Representative | Key site informants | ¹ 598 | 3 | 1.00 | 1,794 | 359
Interview Guide B. Project Director
Interview Guide C. Family Representative/Representative of Family/Advocacy Organizations
Interview Guide D. Program Evaluator
Interview Guide E. Intake Worker
Interview Guide F. Care Coordinator
Interview Guide G. Direct Service Delivery Staff
Interview Guide H. Care Review Participant
Interview Guide I. Caregiver of Child or Youth Served by the Program
Interview Guide L. Direct Service Staff from Other Public Child-Serving Agencies
Interview Guide M. Care Record/Chart Review
Interview Guide N. Other Staff
Interview Guide O. Debriefing Document
Interview Guide P. Youth Respondent
Interview Guide Q. Youth Coordinator
Interview Guide R. Cultural and Linguistic Competence Coordinator
Interview Guide S. Social Marketing Communications Manager
Child and Family Outcome Study
Caregiver Information Questionnaire, Revised: Caregiver—Intake (CIQ-RC-I) | Caregiver | ² 5,541 | 1 | 0.37 | 2,032 | 406
Caregiver Information Questionnaire, Revised: Staff as Caregiver—Intake (CIQ-RS-I) | Staff as Caregiver
Caregiver Information Questionnaire, Revised: Caregiver—Follow-Up (CIQ-RC-F) | Caregiver | 5,541 | ³ 4 | 0.28 | 6,280 | 1,256
Caregiver Information Questionnaire, Revised: Staff as Caregiver—Follow-Up (CIQ-RS-F) | Staff as Caregiver
Caregiver Strain Questionnaire (CGSQ) | Caregiver | 5,541 | 5 | 0.17 | 4,627 | 925
Child Behavior Checklist 1½-5 (CBCL 1½-5) | Caregiver | 5,541 | 5 | 0.33 | 9,226 | 1,845
Child Behavior Checklist 6-18 (CBCL 6-18)
Education Questionnaire, Revision 2 (EQ-R2) | Caregiver | 5,541 | 5 | 0.33 | 9,226 | 1,845
Living Situations Questionnaire (LSQ) | Caregiver | 5,541 | 5 | 0.08 | 2,300 | 460
Behavioral and Emotional Rating Scale—Second Edition, Parent Rating Scale (BERS-2C) | Caregiver | ⁴ 4,909 | 5 | 0.17 | 4,099 | 820
Columbia Impairment Scale (CIS) | Caregiver | ⁵ 5,348 | 5 | 0.08 | 2,219 | 444
Parenting Stress Index (PSI) | Caregiver | ⁶ 2,030 | 5 | 0.08 | 846 | 169
Devereux Early Childhood Assessment for Infants (DECA 1-18M) | Caregiver | ⁷ 1,528 | 5 | 0.08 | 637 | 127
Devereux Early Childhood Assessment for Toddlers (DECA 18-36M)
Devereux Early Childhood Assessment (DECA 2-5Y)
Preschool Behavioral and Emotional Rating (PreBERS) | Caregiver | 1,528 | 5 | 0.10 | 764 | 153
Delinquency Survey, Revised (DS-R) | Youth | ⁸ 3,624 | 5 | 0.13 | 2,416 | 483
Behavioral and Emotional Rating Scale—Second Edition, Youth Rating Scale (BERS-2Y) | Youth | 3,624 | 5 | 0.17 | 3,026 | 605
Gain Quick-R: Substance Problem Scale (GAIN) | Youth | 3,624 | 5 | 0.08 | 1,504 | 301
Substance Use Survey, Revised (SUS-R) | Youth | 3,624 | 5 | 0.10 | 1,812 | 362
Revised Children's Manifest Anxiety Scales (RCMAS) | Youth | 3,624 | 5 | 0.05 | 906 | 181
Reynolds Adolescent Depression Scale—Second Edition (RADS-2) | Youth | 3,624 | 5 | 0.05 | 906 | 181
Youth Information Questionnaire, Revised—Intake (YIQ-R-I) | Youth | 3,624 | 1 | 0.25 | 906 | 181
Youth Information Questionnaire, Revised—Follow-Up (YIQ-R-F) | Youth | 3,624 | 4 | 0.25 | 3,624 | 725
Service Experience Study
Multi-Sector Service Contacts, Revised: Caregiver—Intake (MSSC-RC-I) | Caregiver | 5,541 | 1 | 0.25 | 1,385 | 277
Multi-Sector Service Contacts, Revised: Staff as Caregiver—Intake (MSSC-RS-I) | Staff as Caregiver
Multi-Sector Service Contacts, Revised: Caregiver—Follow-Up (MSSC-RC-F) | Caregiver | 5,541 | 4 | 0.25 | 5,541 | 1,108
Multi-Sector Service Contacts, Revised: Staff as Caregiver—Follow-Up (MSSC-RS-F) | Staff as Caregiver
Cultural Competence and Service Provision Questionnaire, Revised (CCSP-R) | Caregiver | 5,541 | ⁹ 4 | 0.13 | 2,955 | 591
Youth Services Survey for Families (YSS-F) | Caregiver | 5,541 | 4 | 0.12 | 2,593 | 519
Youth Services Survey (YSS) | Youth | 3,624 | 4 | 0.08 | 1,203 | 241
Comparison and Sector Study: Juvenile Justice
Court Representative Questionnaire (CRQ) | Court representatives | ¹⁰ 212 | 5 | 0.50 | 530 | 106
Electronic Data Transfer of Juvenile Justice Records | Key site personnel | 212 | 5 | 0.03 | 35 | 7
Comparison and Sector Study: Education
Teacher Questionnaire (TQ) | Teacher | 212 | 5 | 0.50 | 530 | 106
School Administrator Questionnaire (SAQ) | School administrators | 212 | 5 | 0.50 | 530 | 106
Electronic Data Transfer of Education Records | Key site personnel | 212 | 5 | 0.03 | 35 | 7
Comparison and Sector Study: Child Welfare
Child Welfare Sector Study Questionnaire—Intake (CWSQ-I) | Care coordinators | 212 | 1 | 0.50 | 106 | 21
Child Welfare Sector Study Questionnaire—Follow-Up (CWSQ-F) | Care coordinators | 212 | 4 | 0.50 | 424 | 85
Electronic Data Transfer of Child Welfare Records | Key site personnel | 212 | 5 | 0.03 | 35 | 7
Sustainability Study
Sustainability Survey: Brief Form | Project Director | 79 | 2 | 0.17 | 26 | 5
Sustainability Survey | Providers ¹¹ | 126 | 2 | 0.75 | 189 | 38
| Caregiver ¹¹ | 42 | 2 | 0.75 | 63 | 13
CQI Initiative Evaluation
CQI Baseline Survey, Web-Based | Key site personnel | 208 | 1 | 0.50 | 104 | 21
CQI Monitoring Survey, Web-Based | Key site personnel | 208 | 2 | 0.50 | 208 | 42
CQI Local Focus Group Guide | Key site personnel | 30 | 2 | 1.00 | 60 | 12
CQI National Focus Group Guide | National TA providers | 20 | 2 | 1.00 | 40 | 8
Alumni Networking Study
Networking and Collaboration Survey | Key site personnel | 248 | 2 | 0.50 | 248 | 50
Alumni Network Web Site Satisfaction Survey | Key site personnel, National TA providers, Branch staff | 458 | 2 | 0.25 | 229 | 46
Services and Costs Study
Flex Funds Data Dictionary/Tool | Local programming staff compiling/entering administrative data on children/youth | ¹² 1,306 | ¹³ 3 | 0.03 | 129 | 26
Services and Costs Data Dictionary/Data Entry Application | Local evaluator, staff at partner agencies, and programming staff compiling/entering service and cost records on children/youth | 5,541 | ¹⁴ 100 | 0.05 | 27,705 | 5,541
Summary of Annualized Burden Estimates for 5 Years
| Number of distinct respondents |  | Number of responses per respondent | Average 5-year burden per response (hours) | Total annual burden (hours)
Caregivers | 5,541 |  | 0.9 | 2.2 | 10,959
Youth | 3,624 |  | 0.9 | 1.0 | 3,261
Providers/Administrators | 598 |  | 10.8 | 1.0 | 6,593
Total Summary | 9,763 |  | 13 |  | 20,812
¹ An average of 23 stakeholders in up to 26 grant communities will complete the System of Care Assessment interview. These stakeholders will include site administrative staff, providers, agency representatives, family representatives, and youth.
² Number of respondents across 26 grantees (5223), in addition to 318 children/families from the comparison sample. Average based on a 5 percent attrition rate at each data collection point.
³ Number of responses per respondent is five over the course of the study (once every 6 months for 24 months, with one baseline/intake response, and 4 follow-up responses).
⁴ Approximate number of caregivers with children over age 5, based on Phase IV data submitted as of 12/08. Also includes 318 children/families from the comparison sample.
⁵ Approximate number of caregivers with children 3 and older, based on Phase IV data submitted as of 12/08. Also includes 318 children/families from the comparison sample.
⁶ Approximate number of caregivers with either: (1) children served at the roughly 7 early childhood-focused communities, for whom the instrument is required; or (2) children aged 0 to 12 at other communities, where the instrument is optional (we estimate that ⅓ of caregivers will be administered the instrument when it is optional). Estimates are based on Phase IV data submitted as of 12/08.
⁷ Approximate number of caregivers with either: (1) children served at the roughly 7 early childhood-focused communities, for whom the instrument is required; or (2) children aged 0 to 5 at other communities, where the instrument is optional (we estimate that ⅓ of caregivers will be administered the instrument when it is optional). Estimates are based on Phase IV data submitted as of 12/08.
⁸ Based on Phase IV finding that approximately 63 percent of the children in the evaluation were 11 years old or older. Also includes 318 children/families from the comparison sample.
⁹ With the exception of the MSSC-R, respondents only complete Service Experience Study measures at follow-up points. See Footnote #3 for the explanation about the average number of responses per respondent.
¹⁰ Approximate number of children/families in each sector, for the Sector and Comparison Study. This includes cases within the communities, as well as within the comparison sample.
¹¹ For each community, 1 respondent will be a caregiver and 3 respondents will be administrators/providers.
¹² Assumes that each community will use flexible funds expenditures on average for approximately one quarter of the children/youth enrolled.
¹³ Assumes that three expenditures, on average, will be spent on each child/youth receiving flexible fund benefits.
¹⁴ Assumes that each child/youth in system of care communities and in the comparison sample will have 100 service episodes, on average.

Written comments and recommendations concerning the proposed information collection should be sent by August 28, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 27, 2009.
Elaine Parry,
Director, Office of Program Services.

[FR Doc. E9-18317 Filed 7-30-09; 8:45 am]

BILLING CODE 4162-20-P